DEPARTMENT OF COMMERCE

National Oceanic and Atmospheric Administration

RIN 0648-XD435

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held September 23-25, 2014 from 8 a.m. to 5 p.m.

ADDRESSES: The meeting will be held at the Silver Spring Civic Center, One Veterans Plaza, Silver Spring, MD 20910; 240-777-5350.

FOR FURTHER INFORMATION CONTACT: Heidi Lovett, Acting MAFAC Executive Director; (301) 427-8004; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and discuss policies and guidance on the following topics: Improving recovery of protected resources, recreational fisheries policy, the proposed rule for the aquaculture plan for Federal waters of the Gulf of Mexico, climate science advice and the regulatory process, regulatory discards and the EU landings obligation, and cost recovery/cost sharing models. The meeting will include discussion of various MAFAC administrative and organizational matters and may include meetings of the standing subcommittees.

Special Accommodations

The meeting is physically accessible to people with disabilities. Requests for sign language interpretation or other auxiliary aids should be directed to Heidi Lovett, Acting MAFAC Executive Director; 301-427-8004 by September 16, 2014.

Dated: September 3, 2014.
Eileen Sobeck,
Assistant Administrator for Fisheries, National Marine Fisheries Service.

[FR Doc. 2014-21315 Filed 9-5-14; 8:45 am]

BILLING CODE 3510-22-P